FEDERAL COMMUNICATIONS COMMISSION

47 CFR Part 64

[CC Docket No. 98-67; FCC 03-112]

Telecommunications Relay Services and Speech-to-Speech Services for Individuals With Hearing and Speech Disabilities

AGENCY: Federal Communications Commission.

ACTION: Correcting amendments.

SUMMARY: This document contains corrections to the final regulations of the Commission's rules, which were published in the Federal Register on Monday, August 25, 2003, 68 FR 50973.

The final regulations amended the Commission's rules pertaining to mandatory minimum standards, and other regulations for Telecommunications Relay Services and Speech-to-Speech services for individuals with hearing and speech disabilities.

DATES: Effective September 24, 2004.

FOR FURTHER INFORMATION CONTACT: Cheryl King, of the Consumer & Governmental Affairs Bureau at (202) 418-2284 (voice), (202) 418-0416 (TTY), or e-mail cheryl.king@fcc.gov.

SUPPLEMENTARY INFORMATION: The Federal Communications Commission published a document amending 47 CFR 64.604 in the Federal Register of August 25, 2003, (68 FR 50973). The amended rules are intended to improve the overall effectiveness of TRS to ensure that persons with hearing and speech disabilities have access to telecommunications networks that is consistent with the goal of functional equivalency mandated by Congress.

Need for Correction

As published, the final regulations contain errors which may prove to be misleading and need to be clarified.

List of Subjects in 47 CFR Part 64

Individuals with disabilities, Reporting and recordkeeping requirements, Telecommunications.

Accordingly, 47 CFR Part 64 is corrected by making the following correcting amendments:

PART 64—MISCELLANEOUS RULES RELATING TO COMMON CARRIERS

1. The authority citation for part 64 continues to read as follows:

Authority: 47 U.S.C. 154, 254(k); secs. 403(b)(2)(B), (c), Public Law 104-104, 110 Stat. 56. Interpret or apply 47 U.S.C. 201, 218, 225, 226, 228, and 254(k) unless otherwise noted.

§ 64.604 [Amended]

2. Section 64.604 is amended by removing paragraphs (a)(5) and (a)(6) and by redesignating paragraph (a)(7) as paragraph (a)(5).

Federal Communications Commission.
Marlene H. Dortch,
Secretary.

[FR Doc. 04-21514 Filed 9-23-04; 8:45 am]

BILLING CODE 6712-01-P